DEPARTMENT OF COMMERCE

National Oceanic and Atmospheric Administration

Proposed Information Collection; Comment Request; Feedback Survey for Annual Tsunami Warning Communications Tests

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 9, 2012.

ADDRESSES: Direct all written comments to Jennifer Jessup, Departmental Paperwork Clearance Officer, Department of Commerce, Room 6616, 14th and Constitution Avenue NW., Washington, DC 20230 (or via the Internet at JJessup@doc.gov.)

FOR FURTHER INFORMATION CONTACT: Requests for additional information or copies of the information collection instrument and instructions should be directed to Jeff Lorens, (801) 524-4000 or Jeffrey.Lorens@noaa.gov.

SUPPLEMENTARY INFORMATION:

I. Abstract

This request is for extension of this information collection.

This information collection supports the Tsunami Warning and Education Act, Public Law 109-424. To assess the effectiveness of NOAA/National Weather Service's (NWS) Tsunami Warning System, this survey is needed to gather specific feedback information following testing of the associated NWS communications systems. The tests are planned annually, in March/April and again in September. Post-test feedback information will be requested from emergency managers, the media, law enforcement officials, local government agencies/officials, and the general public. The responses will be solicited for a limited period immediately following completion of the tests, not to exceed seven days. This will be a Web-based survey and will allow for efficient collection of information regarding the effectiveness of the Tsunami Warning System.

II. Method of Collection

A Web-based survey will be used for electronic submission.

III. Data

OMB Control Number: 0648-0539.

Form Number: None.

Type of Review: Regular submission (extension of a current information collection).

Affected Public: Individuals or households, Federal Government, and State, local or tribal governments.

Estimated Number of Respondents: 300.

Estimated Time per Response: 5 minutes.

Estimated Total Annual Burden Hours: 25.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 6, 2012.
Gwellnar Banks,
Management Analyst, Office of the Chief Information Officer.

[FR Doc. 2012-2963 Filed 2-8-12; 8:45 am]

BILLING CODE 3510-KE-P